DEPARTMENT OF TRANSPORTATION

Federal Transit Administration

Transfer of Federally Assisted Land or Facility

AGENCY: Federal Transit Administration, DOT.

ACTION: Notice of intent to transfer federally assisted land or facility.

SUMMARY: Section 5334(g) of the Federal Transit Laws, as codified, 49 U.S.C. 5301 et seq., permits the Administrator of the Federal Transit Administration (FTA) to authorize a recipient of FTA funds to transfer land or a facility to a public body for any public purpose with no further obligation to the Federal Government if, among other things, no Federal agency is interested in acquiring the asset for Federal use. Accordingly, FTA is issuing this notice to advise Federal agencies that the Whatcom Transportation Authority (WTA) intends to transfer a parcel of land with structures to the City of Bellingham, Washington to use in the City's public works division for office space and storage of that division's vehicles and equipment. The parcel was formerly used as WTA's bus maintenance, operations and administrative facility and consists of approximately 29,250 square feet of land on the northeast corner of Nevada Street and Virginia Street in Bellingham, Washington (post office address: 2200 Nevada Street, Bellingham, WA) situated within a heavy commercial and/or light industrial area zoned LM for light manufacturing. The property includes a flex-type building consisting of a front office and/or administration section, a large, attached, multi-purpose shop or warehouse-type rear section and an exterior bus was facility. The total building coverage is approximately 14,966 square feet.

EFFECTIVE DATE: Any Federal agency interested in acquiring the land or facility must notify the FTA Region X Office of its interest by November 22, 2004.

ADDRESSES: Interested parties should notify the Regional Office by writing to Richard F. Krochalis, Regional Administrator, Federal Transit Administration, 915 Second Avenue, Room 3142, Seattle, WA 98174.

FOR FURTHER INFORMATION CONTACT: Theodore Y. Uyeno, Regional Counsel (206) 220-7958.

SUPPLEMENTARY INFORMATION:

Background

49 U.S.C. 5334(g) provides guidance on the transfer of capital assets. Specifically, if a recipient of FTA assistance decides an asset acquired under this chapter at least in part with that assistance is no longer needed for the purpose for which it was acquired, the Secretary of Transportation may authorize the recipient to transfer the asset to a local government authority to be used for a public purpose with no further obligation to the Government. 49 U.S.C. 5334(g)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(G)(1)(D) of the Federal Transit Laws. Accordingly, FTA hereby provides notice of the availability of the land or facility further described below. Any Federal agency interested in acquiring the affected land or facility should promptly notify the FTA. If no Federal agency is interested in acquiring the existing land or facility, FTA will make certain that the other requirements specified in 49 U.S.C. 5334(g)(1)(A) through (C) are met before permitting the asset to be transferred.

Additional Description of Land or Facility

The property is a former bus operations and maintenance site consisting of an approximately 29,250 square foot parcel of land at the corner of Nevada and Virginia Streets in Bellingham, Washington. The property is situated within an area zoned LM for light manufacturing use. The parcel is located in a heavy commercial/light industrial area. The property was previously used as a transit bus operations and maintenance facility. The property contains a flex-type building consisting of a front office and/or administration section and a large attached multi-purpose shop or warehouse rear section for a total building coverage of approximately 14,966 square feet. The property includes a bus wash facility connected to the main building section which includes an enclosed control room servicing an exterior bus wash unit of metal framing with ground level guiding tracks for large vehicles and installed brushing and swiping apparatus with automatic operating system and water lines. The subject lot has perimeter dimensions of 130 feet in width from south to north fronting along the east side of Nevada Street and is 225 feet in depth or length from west to east adjacent to the north side of Virginia Street.

The entire tract is level and at-grade in relation to both Nevada and Virginia Streets, which are fully improved, two-way traffic, local streets serving this part of Bellingham, having parallel concrete curbs and public sidewalks as well as providing curbside vehicular parking. The building improvements consist of concrete foundations, basic concrete slab floors, enameled metal side walls, flat roofs with gutters and downspouts and various entry doors and glass windows. The front office section has exterior dimensions of 26 feet wide and 112 feet long for a total enclosed ground floor area of 2,912 square feet. The interior includes work areas, seven individual offices, several work stations, a lounge, two lavatory rooms and shower room with small closets and storage rooms. The rear building section has exterior dimensions of 80 feet wide by 151 feet long with a ground floor coverage of 12,054 square feet. The space is all open and non-partitioned with a concrete slab floor, exposed metal sidewalls and eleven large metal vehicular size roll-up doors. Miscellaneous site improvements include approximately 12,500 square feet of asphalt surfaced vehicular parking and maneuvering areas and assorted landscaped areas which include shrubberies, trees and ornamentals.

The general condition of the building appears in good overall condition from a structural standpoint and is approximately 26 years old. The bus wash facility is considered obsolete or an unnecessary improvement.

Issued on October 12, 2004.
Richard F. Krochalis,
Regional Administrator.

[FR Doc. 04-23872 Filed 10-25-04; 8:45 am]

BILLING CODE 4910-57-M